NATIONAL SCIENCE FOUNDATION

Agency Information Collection Activities: Comment Request

AGENCY: National Science Foundation.

ACTION: Submission for OMB review; comment request.

SUMMARY: The National Science Foundation (NSF) has submitted the following information collection requirement to OMB for review and clearance under the Paperwork Reduction Act of 1995, Public Law 104-13. This is the second notice for public comment; the first was published in the Federal Register at 74 FR 32196, and no comments addressing the areas in question were received. NSF is forwarding the proposed renewal submission to the Office of Management and Budget (OMB) for clearance simultaneously with the publication of this second notice. Comments regarding (a) whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Office of Information and Regulatory Affairs of OMB, Attention: Desk Officer for National Science Foundation, 725-17th Street, NW., Room 10235, Washington, DC 20503, and to Suzanne H. Plimpton, Reports Clearance Officer, National Science Foundation, 4201 Wilson Boulevard, Suite 295, Arlington, Virginia 22230 or send e-mail to splimpto@nsf.gov. Comments regarding these information collections are best assured of having their full effect if received within 30 days of this notification. Copies of the submission(s) may be obtained by calling 703-292-7556.

NSF may not conduct or sponsor a collection of information unless the collection of information displays a currently valid OMB control number and the agency informs potential persons who are to respond to the collection of information that such persons are not required to respond to the collection of information unless it displays a currently valid OMB control number.

SUPPLEMENTARY INFORMATION: Title of Collection: Evaluation of the National Science Foundation's Math and Science Partnership (MSP) Program.

OMB Control No.: 3145-0200.

Abstract: The National Science Foundation (NSF) requests a three-year clearance for an evaluation of the Math and Science Partnership (MSP) program. The MSP program is a research and development (R&D) effort funded by the NSF to integrate the work of higher education, especially disciplinary faculty in math, sciences, and engineering, with that of K-12 communities in order to strengthen and reform math and science education. The program is authorized under the NSF Authorization Act of 2002 (Pub. L. 107-368), December 19, 2002 (to authorize appropriations for FY 2003-07 and “for other purposes”). MSP is among 11 programs specifically authorized by the legislation (Sec. 11 authorizes a 12th program, the Centers for Research on Mathematics and Science Learning and Education Improvement).

NSF's MSP program portfolio consists of about 80 awards or projects (e.g. design grants, standard or continuing grants or cooperative agreements) that initially were funded between 2002 and 2004. The type of awards subject to study and data collection, however, include only the comprehensive MSPs, targeted MSPs and teacher institute partnerships, or a universe of approximately 65 discrete projects.

The evaluation's data collection and analysis activities will be conducted by COSMOS Corporation, Bethesda, MD, in partnership with Brown University via a contract administered by the NSF's Division of Research, Evaluation and Communication (REC). This evaluation involves both quantitative and qualitative data, collected from multiple sources using multiple methods, including secondary analyses of project-related materials such as existing databases (MSP Management Information System—OMB 3145-0199), annual reports, Web sites, and relevant policy and methodological documents and original data collection through one-on-one interviews with key stakeholders conducted during site visits. For the MSP Management Information System, the contract team will analyze these data using quantitative statistical models. A second data source consists of annual project reports and other reports submitted by the MSP grantees to the NSF in accordance with Federal research project reporting requirements established at NSF under OMB 3145-0058. A third source is U.S. Department of Education's public use files on student achievement and school systems' demographic characteristics.

The fourth source for data is the proposed evaluation's original data collection activities. In particular and principally a series of site visits will be conducted during 2006-2011.

The evaluation's overall framework consists of several substudies each focusing on a different, but essential part of the MSP grantees' work (e.g., partnerships, the role of disciplinary faculty, student achievement). The relevant evaluation design under these conditions might be considered a meta-analytic rather than singular design—e.g., providing a rationale for the selection of substudies as well as some guidance for conducting the substudies. Consultations have occurred with a team of external experts on the research design during the evaluation's design phase and will continue to take place throughout the evaluation. The team of external experts represents the nation's leading researchers and scholars on methodology and content in the field of evaluation and representatives are from top-tier university schools of education and departments of mathematics or science; an education advocacy group; and an education research council.

The data collection instruments include face-to-face interviews, such as focus groups, and telephone or electronic surveys. An interview protocol based on the evaluation framework will be administered during the site visits. Expected respondents at site visits are Principal Investigators, co-Principal Investigators, administrators, teams of external experts, and other stakeholders who participated in MSP. There are no costs to respondents other than the time involved in the interview or survey process.

Information from the evaluation's data collections and analysis will be used to improve the NSF's program processes and outcomes. It will enable NSF to prepare and publish reports, and to respond to requests from Committees of Visitors, Congress, and the Office of Management and Budget, particularly as related to the Government Performance and Results Act (GPRA) and the Program Effectiveness Rating Tool (PART).

The primary evaluation questions include but are not limited to:

(1) How has the MSP Program effected or influenced the expertise, numbers, and diversity of the mathematics and science teaching force, K-12 student achievement in mathematics and science, and other presumed program outcomes?

(2) What factors or attributes have accelerated or constrained progress in the MSP Program's achievements? and

(3) How have institutions of higher education (IHEs) disciplinary faculty (mathematics, science, and engineering) participated in the MSP Program, and what has been their role in the Program's achievements?

Respondents: Individuals and not-for-profit institutions.

Estimated Number of Total Respondents: 352.

Total Burden on the Public: 960 hours.

Dated: November 4, 2010.
Suzanne H. Plimpton,
Reports Clearance Officer, National Science Foundation.

[FR Doc. 2010-28308 Filed 11-9-10; 8:45 am]

BILLING CODE 7555-01-P